DEPARTMENT OF COMMERCE

International Trade Administration

[C-533-868]

Welded Stainless Pressure Pipe From India: Rescission of Countervailing Duty Administrative Review: 2018

AGENCY: Enforcement and Compliance, International Trade Administration, Department of Commerce.

SUMMARY: The Department of Commerce (Commerce) is rescinding the administrative review of the countervailing duty (CVD) order on certain welded stainless pressure pipes (WSPP) from India for the period of review (POR) January 1, 2018 through December 31, 2018, based on the timely withdrawal of the request for review.

DATES: Applicable May 11, 2020.

FOR FURTHER INFORMATION CONTACT: Shanah Lee, AD/CVD Operations, Office III, Enforcement and Compliance, International Trade Administration, U.S. Department of Commerce, 1401 Constitution Avenue NW, Washington DC 20230; telephone: (202) 482-6386.

SUPPLEMENTARY INFORMATION:

Background

On November 1, 2019, Commerce published a notice of opportunity to request an administrative review of the CVD order on WSPP from India for the POR of January 1, 2018 through December 31, 2018.¹ On November 29, 2019, Commerce received a timely-filed request from Sunrise Stainless Private Limited, Sun Mark Stainless Pvt. Ltd., and Shah Foils Ltd. (collectively, Sunrise Group) for an administrative review of its exports of subject merchandise to the United States during the POR, in accordance with section 751(a) of the Tariff Act of 1930, as amended (the Act), and 19 CFR 351.213(b).²

¹ See Antidumping or Countervailing Duty Order, Finding, or Suspended Investigation; Opportunity to Request Administrative Review, 84 FR 58690 (November 1, 2019).

² See Sunrise Group's Letter, “Welded Stainless Pressure Pipe from India: Request for Administrative Review of Countervailing Duty of Sunrise Private Limited, Sun Mark Stainless Pvt. Ltd., and Shah Foils Ltd.,” dated November 29, 2019.

On January 17, 2020, pursuant to this request, and in accordance with 19 CFR 351.221(c)(1)(i), Commerce published a notice initiating an administrative review of the CVD order on WSPP from India for Sunrise Group.³ On February 12, 2020, Sunrise Group withdrew the request for an administrative review of its exports of subject merchandise.⁴ On April 24, 2020, Commerce tolled all deadlines in administrative reviews by 50 days, thereby extending the deadline for these results until September 21, 2020.⁵

³ See Initiation of Antidumping and Countervailing Duty Administrative Reviews, 85 FR 3014 (January 17, 2020).

⁴ See Sunrise Group's Letter, “Welded Stainless Pressure Pipes from India: Withdrawal Request for Countervailing Duty Administrative Review,” dated February 12, 2020.

⁵ See Memorandum, “Tolling of Deadlines for Antidumping and Countervailing Duty Administrative Reviews in Response to Operational Adjustments Due to COVID-19,” dated April 24, 2020.

Rescission of Review

Pursuant to 19 CFR 351.213(d)(1), Commerce will rescind an administrative review, in whole or in part, if the party or parties that requested a review withdraws the request within 90 days of the publication date of the notice of initiation of the requested review. Sunrise Group timely submitted a request to withdraw its request for administrative review. No other parties requested an administrative review of the order. Therefore, in accordance 19 CFR 351.213(d)(1), we are rescinding this review, in its entirety.

Assessment

Commerce will instruct U.S. Customs and Border Protection (CBP) to assess countervailing duties on all appropriate entries of WSPP from India. Countervailing duties shall be assessed at rates equal to the cash deposit of estimated countervailing duties required at the time of entry, or withdrawal from warehouse, for consumption in accordance with 19 CFR 351.212(c)(1)(i). Commerce intends to issue appropriate assessment instructions to CBP 15 days after the date of publication of this notice in the Federal Register.

Notification Regarding Administrative Protective Orders

This notice also serves as a reminder to all parties subject to administrative protective order (APO) of their responsibility concerning the disposition of proprietary information disclosed under APO in accordance with 19 CFR 351.305. Timely written notification of the return/destruction of APO materials or conversion to judicial protective order is hereby requested. Failure to comply with the regulations and terms of an APO is a violation which is subject to sanction.

Notification to Interested Parties

This notice is issued and published in accordance with sections 751(a) and 777(i)(1) of the Act, and 19 CFR 351.213(d)(4).

Dated: May 4, 2020.
James Maeder,
Deputy Assistant Secretary for Antidumping and Countervailing Duty Operations.

[FR Doc. 2020-09981 Filed 5-8-20; 8:45 am]

BILLING CODE 3510-DS-P